DEPARTMENT OF DEFENSE

Department of the Army

Board of Visitors, United States Military Academy (USMA)

AGENCY: Department of the Army, DoD.

ACTION: Notice; correction.

SUMMARY: The notice of an open meeting scheduled for July 14, 2007 published in the Federal Register on June 19, 2007 (72 FR 33743) has a new meeting location and start time. The meeting will now be held in Room 406A, Kimsey Athletic Center, West Point, New York. The new start time for the meeting is approximately 10:30 a.m.

FOR FURTHER INFORMATION CONTACT: Ms. Cynthia Kramer, United States Military Academy, West Point, NY 10996-5000, (845) 938-5078.

SUPPLEMENTARY INFORMATION: None.

Brenda S. Bowen,
Army Federal Register Liaison Officer.

[FR Doc. 07-3392 Filed 7-11-07; 8:45 am]

BILLING CODE 3710-08-M